DEPARTMENT OF TRANSPORTATION

Federal Highway Administration

[Docket No. FHWA-2021-0021]

Infrastructure and Investment Jobs Act Request for Information

AGENCY: Federal Highway Administration (FHWA), U.S. Department of Transportation (DOT).

ACTION: Notice; request for information (RFI).

SUMMARY: FHWA seeks public input on the implementation of the Infrastructure and Investment Jobs Act.

ADDRESSES: To ensure that you do not duplicate your docket submissions, please submit all comments by only one of the following ways:

Federal eRulemaking Portal: Go to https://www.regulations.gov and follow the online instructions for submitting comments.

Mail: Docket Management Facility, U.S. Department of Transportation, 1200 New Jersey Ave. SE, W12-140, Washington, DC 20590-0001.

Hand Delivery: West Building Ground Floor, Room W12-140, 1200 New Jersey Ave. SE, Washington, DC 20590-0001, between 9 a.m. and 5 p.m. e.t., Monday through Friday, except Federal holidays. The telephone number is 202-366-9329.

Instructions: You must include the agency name and the docket number, FHWA-2021-0021, at the beginning of your comments. All comments received will be posted without change to https://www.regulations.gov, including any personal information provided.

Privacy Act: Except as provided below, all comments received into the docket will be searchable by the name of the individual submitting the comment (or signing the comment, if submitted on behalf of an association, business, labor union, etc.). You may review DOT's complete Privacy Act Statement in the Federal Register published on April 11, 2000 (65 FR 19477) or at http://www.regulations.gov/privacy.

FOR FURTHER INFORMATION CONTACT: For questions about this RFI, please contact Dan Stillson, FHWA Office of Policy, 202-366-9202, or via email at Dan.Stillson@dot.gov or email FHWA.BIL@dot.gov. Office hours for FHWA are from 8:00 a.m. to 4:30 p.m., E.T., Monday through Friday, except Federal holidays.

SUPPLEMENTARY INFORMATION:

Electronic Access

A copy of this Notice, all comments received on this Notice, and all background material may be viewed online at https://www.regulations.gov using the docket number listed above. Electronic retrieval help and guidelines are also available at https://www.regulations.gov. An electronic copy of this document may be downloaded from the Office of the Federal Register's website at: www.FederalRegister.gov and the Government Publishing Office's database at: www.GovInfo.gov.

Background

On November 15, 2021, President Joseph R. Biden, Jr. signed the Bipartisan Infrastructure Law (BIL), enacted as the Infrastructure Investment and Jobs Act, Public Law 117-58 (Nov. 15, 2021). The BIL is a once-in-a-generation investment in infrastructure, which will grow the economy, enhance U.S. competitiveness in the world, create good jobs, and make the U.S. economy more sustainable, resilient, and equitable. It includes the largest dedicated bridge investment since the construction of the Interstate System, and the largest investment in electric vehicle charging infrastructure in history. Specific to FHWA, the BIL provides more than $350 billion over 5 fiscal years (FY 22-26) for surface transportation programs. This represents, on an average annual basis, nearly 29 percent more Federal-aid funding for highway programs and activities than under prior law, and it also establishes more than a dozen new highway programs.

The BIL focuses on investing in safety, bridges, equity and reconnecting communities, addressing climate change, and promoting resilience. In addition, there are several new programs offering new opportunities for local governments and other non-traditional entities to receive highway funding. More information on the BIL can be located at www.whitehouse.gov or at www.congress.gov/bill/117th-congress/house-bill/3684.

In order to make the most of the BIL's historic investment and opportunities, FHWA is seeking your input on the FHWA-related sections of the BIL. Most of those provisions are contained in Title I of Division A and in Title VIII of Division J. Through this RFI, FHWA is soliciting information and suggestions from the public and a broad array of stakeholders across public and private sectors on how best to facilitate FHWA's implementation of the BIL.

Request for Information

This RFI is intended to solicit information on: (i) Potential opportunities and challenges for implementing new BIL programs; (ii) potential opportunities and challenges for implementing existing programs modified by the BIL; (iii) solutions or suggestions as to how FHWA might implement the BIL; (iv) necessity for additional guidance, FAQs, or program changes; and (v) areas requiring new and continued research.

Content of Comments

The Department will review all comments submitted to the docket associated with this Notice, FHWA-2021-0021. To maximize useful comments, FHWA encourages commenters to provide the following information:

1. Specific Reference. A specific reference to the section number of the BIL that the comment discusses (and the associated section of the U.S. Code that the bill amends, if applicable). A specific reference will assist FHWA in identifying the requirements and relevant documentation that may describe the legislative history of the requirements.

2. Detailed description of the action you think FHWA should take in response to the opportunity or challenge identified.

3. Detailed information that you think FHWA should consider while implementing the provision(s).

Scope of Comments

Although FHWA is seeking comments on the new programs and other changes in the BIL, FHWA is particularly interested in any comments on how best it can implement highway formula programs continued by the BIL. For example, the BIL continues the Surface Transportation Block Program, with some additional eligibilities, under 23 U.S.C. 133. The FHWA is interested not only in comments on the new eligibilities, but also if there are additional opportunities to make improvements or changes to the existing program as FHWA implements the BIL. The same goes for other existing programs such as the National Highway Performance Program, the Highway Safety Improvement Program, the National Highway Freight Program, and the Congestion Mitigation and Air Quality Improvement Program.

Although FHWA is seeking public input on the implementation of the BIL, it will issue guidance and begin other activities related to implementation while this docket remains open.

Under this Notice, FHWA is not soliciting petitions for rulemaking or comments on any ongoing rulemaking action.

Stephanie Pollack,
Deputy Administrator, Federal Highway Administration.

[FR Doc. 2021-26145 Filed 11-30-21; 8:45 am]

BILLING CODE 4910-22-P